DEPARTMENT OF THE INTERIOR

Bureau of Land Management

[CA-930-5410-00-B211; CACA 47945-01]

Conveyance of Federally-Owned Mineral Interests in California

AGENCY: Bureau of Land Management, Interior.

ACTION: Notice of filing of application and segregation of land.

SUMMARY: An application has been filed on March 25, 2008, for the conveyance of the Federally-owned mineral interests in the tract of land described in this notice. Publication of this notice temporarily segregates the mineral interests in the land covered by the application from appropriation under the mining and mineral leasing laws while the application is being processed.

FOR FURTHER INFORMATION CONTACT: Dianna Storey, Bureau of Land Management, California State Office, 2800 Cottage Way, Sacramento, California 95825, (916) 978-4676.

Your comments are invited. Please submit all comments in writing to Dianna Storey at the address listed above. Comments, including names, street addresses, and other contact information of respondents, will be available for public review. Individual respondents may request confidentiality. If you wish to request that the BLM consider withholding your name, street address, and other contact information, e.g. internet address, FAX or phone number, from public review of disclosure under the Freedom of Information Act, you must state this prominently at the beginning of your written comment. The BLM will honor requests for confidentiality on a case-by-case to the extent allowed by law. The BLM will make available for public inspection, in their entirety, all submissions from organizations and businesses, and from individuals identifying themselves as representatives or officials of organizations or businesses.

SUPPLEMENTARY INFORMATION: The tract of land referred to in this notice consists of 440 acres of land, situated in Los Angeles County, and is described as follows:

San Bernardino Meridian, California

T. 4 N., R. 14 W.,

Sec. 4, SW¼NE¼, NE¼SW¼, S½SW¼, and SE¼.

Sec. 9, N½NE¼ and SW¼NE¼.

Under certain conditions, Section 209(b) of the Federal Land Policy and Management Act of October 21, 1976, 43 U.S.C. 1719 (FLPMA) authorizes the sale and conveyance of the Federally-owned mineral interests in land when the non-mineral (or so called surface interest in land) is not Federally-owned. The objective is to allow consolidation of the surface and mineral interests when either one of the following conditions exist: (1) There are no known mineral values in the land; or (2) where continued Federal ownership of the mineral interests interferes with or precludes appropriate non-mineral development and such development is a more beneficial use of the land than mineral development.

An application was filed for the sale and conveyance of the Federally-owned mineral interests in the above-described tract of land. Publication of this notice segregates, subject to valid existing rights, the Federally-owned mineral interests in the land referenced above in this notice from appropriation under the general mining and mineral leasing laws, while the application is being processed to determine if either one of the two specified conditions exists and, if so, to otherwise comply with the procedural requirements of 43 CFR Part 2720. The segregative effect shall terminate: (i) Upon issuance of a patent or other document of conveyance as to such mineral interests; (ii) upon final rejection of the application; or (iii) two years from the date of filing the application, whichever occurs first.

Authority: 43 CFR 2720.1-1(b).

Dated: April 2, 2008.
Robert Doyel,
Chief, Branch of Lands Management.

[FR Doc. E8-7688 Filed 4-10-08; 8:45 am]

BILLING CODE 4310-40-P